OFFICE OF PERSONNEL MANAGEMENT

[OMB Control No. 3206-0172; Standard Form 3104 and Standard Form 3104B]

Submission for OMB Review; Comment Request for Review of a Revised Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. “Application for Death Benefits—FERS” (OMB Control No. 3206-0172; Standard Form 3104), is used by persons applying for death benefits which may be payable under FERS because of the death of an employee, former employee, or retiree who was covered by FERS at the time of his/her death or separation from Federal Service. “Documentation and Elections in Support of Application for Death Benefits when Deceased was an Employee at the Time of Death—FERS” (OMB Control No. 3206-0172; Standard Form 3104B), is used by applicants for death benefits under FERS if the deceased was a Federal employee at the time of death.

We estimate that approximately 12,734 SF 3104s will be processed annually and each form takes approximately 60 minutes to complete. An annual burden of 12,734 hours is estimated. We estimate that approximately 4,017 SF 3104Bs will be processed annually and each form takes approximately 60 minutes to complete. An annual burden of 4,017 hours is estimated. The total annual estimated burden is 16,751.

For copies of this proposal, contact Cyrus S. Benson on (202) 606-4808, FAX (202) 606-0910 or via E-mail to Cyrus.Benson@opm.gov. Please include a mailing address with your request.

DATES: Comments on this proposal should be received within 30 calendar days from the date of this publication.

ADDRESSES: Send or deliver comments to—

James K. Freiert, Acting, Deputy Associate Director, Retirement Operations, Retirement and Benefits, U.S. Office of Personnel Management, 1900 E Street, NW., Room 3305, Washington, DC 20415-3500, and

OMB Desk Officer, Office of Information & Regulatory Affairs, Office of Management and Budget, New Executive Office Building, 725 17th Street, NW., Room 10235, Washington, DC 20503.

For information regarding administrative coordination contact: Cyrus S. Benson, Team Leader, Publications Team, RB/RM/Administrative Services, U.S. Office of Personnel Management, 1900 E Street, NW., Room 4H28, Washington DC 20415. (202) 606-4808.

John Berry,
Director, U.S. Office of Personnel Management.

[FR Doc. 2010-14839 Filed 6-18-10; 8:45 am]

BILLING CODE 6325-38-P